DEPARTMENT OF ENERGY

Federal Energy Regulatory Commission

Combined Notice of Filings #1

Take notice that the Commission received the following electric rate filings:

Docket Numbers: ER12-1436-011; ER10-2329-008; ER10-2740-010; ER10-2742-009; ER10-3099-017; ER10-3143-018; ER10-3169-011; ER10-3300-014; ER12-1260-010; ER12-1436-011; ER13-1488-008; ER13-1793-008; ER14-152-006; ER14-153-006; ER14-154-006; ER16-517-001.

Applicants: Eagle Point Power Generation LLC, Elgin Energy Center, LLC, Gibson City Energy Center, LLC, Grand Tower Energy Center, LLC, Hazle Spindle, LLC, La Paloma Generating Company, LLC, Michigan Power Limited Partnership, Quantum Pasco Power, LP, RC Cape May Holdings, LLC, Rocky Road Power, LLC, Sabine Cogen, LP, Shelby County Energy Center, LLC, Tilton Energy LLC, Vineland Energy, LLC, Stephentown Spindle, LLC.

Description: Supplement to November 30, 2016 Notice of Non-Material Change in Status of the Rockland Sellers.

Filed Date: 1/18/17.

Accession Number: 20170118-5218..

Comments Due: 5 p.m. ET 2/8/17.

Docket Numbers: ER16-1058-001.

Applicants: Consumers Energy Company.

Description: Compliance filing: Reactive Service Compliance to be effective 5/1/2016.

Filed Date: 1/18/17.

Accession Number: 20170118-5137.

Comments Due: 5 p.m. ET 2/8/17.

Docket Numbers: ER16-2656-002.

Applicants: Arizona Public Service Company.

Description: Tariff Amendment: APS Motion to Partically Withdraw Tariff Filing to be effective 11/23/2016.

Filed Date: 1/18/17.

Accession Number: 20170118-5170.

Comments Due: 5 p.m. ET 2/8/17.

Docket Numbers: ER17-808-000.

Applicants: Clearview Electric, Inc.

Description: Baseline eTariff Filing: Application for Market Based Rate to be effective 1/23/2017.

Filed Date: 1/18/17.

Accession Number: 20170118-5152.

Comments Due: 5 p.m. ET 2/8/17.

Docket Numbers: ER17-809-000.

Applicants: Verso Escanaba LLC.

Description: Tariff Cancellation: Cancellation of Escanaba Paper Company Tariff to be effective 1/18/2017.

Filed Date: 1/18/17.

Accession Number: 20170118-5157.

Comments Due: 5 p.m. ET 2/8/17.

Docket Numbers: ER17-810-000.

Applicants: Verso Luke LLC.

Description: Tariff Cancellation: Cancellation of Luke Paper Company Tariff to be effective 1/18/2017.

Filed Date: 1/18/17.

Accession Number: 20170118-5159.

Comments Due: 5 p.m. ET 2/8/17.

Docket Numbers: ER17-811-000.

Applicants: NewPage Energy Services, LLC.

Description: Tariff Cancellation: Cancellation of NewPage Energy Services Tariff to be effective 1/18/2017.

Filed Date: 1/18/17.

Accession Number: 20170118-5160.

Comments Due: 5 p.m. ET 2/8/17.

Docket Numbers: ER17-812-000.

Applicants: Rumford Paper Company.

Description: Tariff Cancellation: Cancellation of Rumford Paper Company Tariff to be effective 1/18/2017.

Filed Date: 1/18/17.

Accession Number: 20170118-5162.

Comments Due: 5 p.m. ET 2/8/17.

Docket Numbers: ER17-813-000.

Applicants: Verso Energy Services LLC.

Description: Tariff Cancellation: Cancellation of Verso Maine Energy LLC Tariff to be effective 1/18/2017.

Filed Date: 1/18/17.

Accession Number: 20170118-5163.

Comments Due: 5 p.m. ET 2/8/17.

Docket Numbers: ER17-814-000.

Applicants: Verso Energy Services LLC.

Description: Compliance filing: Baseline Filing for Verso Energy Services LLC MBR Tariff to be effective 1/19/2017.

Filed Date: 1/18/17.

Accession Number: 20170118-5164.

Comments Due: 5 p.m. ET 2/8/17.

Docket Numbers: ER17-815-000.

Applicants: Verso Escanaba LLC.

Description: Compliance filing: Baseline Filing for Verso Escanaba LLC MBR Tariff to be effective 1/19/2017.

Filed Date: 1/18/17.

Accession Number: 20170118-5165.

Comments Due: 5 p.m. ET 2/8/17.

Docket Numbers: ER17-816-000.

Applicants: Verso Luke LLC.

Description: Compliance filing: Baseline Filing for Verso Luke LLC MBR Tariff to be effective 1/19/2017.

Filed Date: 1/18/17.

Accession Number: 20170118-5166.

Comments Due: 5 p.m. ET 2/8/17.

Docket Numbers: ER17-817-000.

Applicants: PJM Interconnection, L.L.C.

Description: § 205(d) Rate Filing: Original Service Agreement No. 4604; Queue No. U5-028 and U4-029 to be effective 12/19/2016.

Filed Date: 1/18/17.

Accession Number: 20170118-5168.

Comments Due: 5 p.m. ET 2/8/17.

Take notice that the Commission received the following electric securities filings:

Docket Numbers: ES17-9-000.

Applicants: GridLiance West Transco LLC.

Description: Amendment to December 16, 2016 Application Under Section 204 of the Federal Power Act for Authorization to Issue Securities of GridLiance West Transco LLC.

Filed Date: 1/13/17.

Accession Number: 20170113-5050.

Comments Due: 5 p.m. ET 1/23/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2017.
Nathaniel J. Davis, Sr.,
Deputy Secretary.

[FR Doc. 2017-01780 Filed 1-25-17; 8:45 am]

BILLING CODE 6717-01-P